DEPARTMENT OF AGRICULTURE

Animal and Plant Health Inspection Service

[Docket No. APHIS-2017-0108]

Notice of Request for Reinstatement of Approval of an Information Collection; Foreign Quarantine Notices

AGENCY: Animal and Plant Health Inspection Service, USDA.

ACTION: Reinstatement of approval of an information collection; comment request.

SUMMARY: In accordance with the Paperwork Reduction Act of 1995, this notice announces the Animal and Plant Health Inspection Service's intention to request a reinstatement of approval of an information collection associated with the regulations to prevent the introduction or spread of foreign plants pests and diseases into or within the United States.

DATES: We will consider all comments that we receive on or before March 30, 2018.

ADDRESSES: You may submit comments by either of the following methods:

• Federal eRulemaking Portal: Go to http://www.regulations.gov/#!docketDetail;D=APHIS-2017-0108.

• Postal Mail/Commercial Delivery: Send your comment to Docket No. APHIS-2017-0108, Regulatory Analysis and Development, PPD, APHIS, Station 3A-03.8, 4700 River Road Unit 118, Riverdale, MD 20737-1238.

Supporting documents and any comments we receive on this docket may be viewed at http://www.regulations.gov/#!docketDetail;D=APHIS-2017-0108 or in our reading room, which is located in room 1141 of the USDA South Building, 14th Street and Independence Avenue SW, Washington, DC. Normal reading room hours are 8 a.m. to 4:30 p.m., Monday through Friday, except holidays. To be sure someone is there to help you, please call 202-799-7039 before coming.

FOR FURTHER INFORMATION CONTACT: For information on the foreign quarantine notices, contact Mr. Marc Phillips, Senior Regulatory Policy Specialist, PPQ, APHIS, 4700 River Road, Unit 133, Riverdale, MD 20737; (301) 851-2114. For copies of more detailed information on the information collection, contact Ms. Kimberly Hardy, APHIS' Information Collection Coordinator, at (301) 851-2483.

SUPPLEMENTARY INFORMATION: Title: Foreign Quarantine Notices.

OMB Control Number: 0579-0049.

Type of Request: Reinstatement of approval of an information collection.

Abstract: The Plant Protection Act (PPA, 7 U.S.C. 7701 et seq.) authorizes the Secretary of Agriculture to restrict the importation, entry, or interstate movement of plants, plant products, and other articles to prevent the introduction of plant pests and diseases into the United States or their dissemination within the United States. This authority has been delegated to the Animal and Plant Health Inspection Service (APHIS), which administers regulations to implement the PPA. Regulations governing the importation of plants, fruits, vegetables, roots, bulbs, seeds, unmanufactured wood articles, and other plant products are contained in 7 CFR part 319, “Foreign Quarantine Notices.” Regulations governing the transit of certain products or articles that are classified as prohibited or restricted products or articles are contained in 7 CFR part 352, “Plant Quarantine Safeguard Regulations.”

The movement of plants and plant products requires various information collection activities, such as operational workplans; cooperative service agreements; trust funds; production or processing site/facility registrations; foreign site certification of inspection and/or treatment; applications for permits; appeals of denial or revocation of permits; requests for additional mailing labels; compliance agreements; phytosanitary certificates; labeling; importer documents; agreements for post entry quarantine State screening notices; 30-day article notifications; requests for emergency transshipment or division; notices of arrival; emergency action notifications; and monitoring/recordkeeping from entities responsible for growing, packing, handling, transporting, and importing foreign plants parts (roots, bulbs, seeds, fruit, leaves, etc.), plant products, timber, and timber products. In addition, APHIS collects required information from national plant protection organizations (NPPOs) as part of the commodity import approval process.

For efficiency, we have consolidated current information collections and existing activities related to 7 CFR parts 319 and 352 into this information collection request. The information collected is vital to helping APHIS ensure that plants and plant products do not harbor plant pests or diseases that, if introduced into the United States, could cause millions of dollars in damage to U.S. agriculture.

We are asking the Office of Management and Budget (OMB) to approve our use of these information collection activities, as described, for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 0.01 hours per response.

Respondents: Facilities; growers; producers; production, processing, and packing sites; importers; individuals; businesses; brokers; shippers; NPPOs; and foreign plant protection authorities.

Estimated annual number of respondents: 22,115.

Estimated annual number of responses per respondent: 2,326.

Estimated annual number of responses: 51,437,932.

Estimated total annual burden on respondents: 535,352 hours. (Due to averaging, the total annual burden hours may not equal the product of the annual number of responses multiplied by the reporting burden per response.)

All responses to this notice will be summarized and included in the request for OMB approval. All comments will also become a matter of public record.

Done in Washington, DC, this 23rd day of January 2018.
Kevin Shea,
Administrator, Animal and Plant Health Inspection Service.

[FR Doc. 2018-01575 Filed 1-26-18; 8:45 am]

BILLING CODE 3410-34-P